DEPARTMENT OF EDUCATION

[CFDA No. 84.325F]

Proposed Extensions and Waivers: National Center To Enhance the Professional Development of School Personnel Who Share Responsibility

AGENCY: Office of Special Education Programs, Office of Special Education and Rehabilitative Services, Department of Education.

ACTION: Notice of proposed extension of project period and waiver for the National Center to Enhance the Professional Development of School Personnel Who Share Responsibility for Improving Results for Children with Disabilities.

SUMMARY: The Secretary proposes to waive the requirements in the Education Department General Administrative Regulations (EDGAR), in 34 CFR 75.250 and 75.261(a) and (c), respectively, that generally prohibit project periods exceeding five years and extensions of project periods involving the obligation of additional Federal funds. This extension of project period and waiver would enable the currently funded project to receive funding from October 1, 2011 through September 30, 2012.

DATES: We must receive your comments on or before July 7, 2011.

ADDRESSES: Address all comments about this proposed extension of project period and waiver to Shedeh Hajghassemali, U.S. Department of Education, 400 Maryland Avenue, SW., room 4091, Potomac Center Plaza, Washington, DC 20202-2600.

If you prefer to send your comments by e-mail, use the following address: shedeh.hajghassemali@ed.gov. You must include the phrase “proposed extension of project period and waiver” in the subject line of your message.

FOR FURTHER INFORMATION CONTACT: Shedeh Hajghassemali at the address listed in the ADDRESSES section of this notice. Telephone: (202) 245-7506. If you use a telecommunications device for the deaf (TDD), call the Federal Relay Service (FRS), toll-free, at 1-800-877-8339.

Individuals with disabilities can obtain this document in an accessible format (e.g., braille, large print, audiotape, or computer diskette) on request to the contact person listed in this section.

Invitation To Comment

We invite you to submit comments regarding this proposed extension of project period and waiver.

During and after the comment period, you may inspect all public comments about this proposed extension of project period and waiver in room 4091, Potomac Center Plaza, 550 12th Street, SW., Washington, DC, between the hours of 8:30 a.m. and 4:00 p.m., Washington, DC time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, please contact the person listed under FOR FURTHER INFORMATION CONTACT.

Background

On June 19, 2006, the Department published a notice in the Federal Register (71 FR 35260) inviting applications for new awards for fiscal year (FY) 2006 for a National Professional Development Enhancement Center (Center), funded under the Personnel Development to Improve Services and Results for Children with Disabilities program, authorized under section 662 of the Individuals with Disabilities Education Act (IDEA).

The purpose of the Center is to provide pre-service training and professional development programs with high-quality instructional modules, materials, and resources in order to improve the overall quality of special education personnel training and professional development. The goal is to help ensure that local educational agencies (LEAs) and schools have the capacity to implement school improvement programs to close achievement gaps between students with disabilities and their peers, and to promote access to, and greater participation and progress in, the general education curriculum in the least restrictive environment for students with disabilities.

Based on the 2006 notice inviting applications, the Department made one award for a period of 60 months to Vanderbilt University to serve as the Center. The Center's current project period is scheduled to end on September 30, 2011. We do not believe that it would be in the public interest to hold a new competition in 2011 to fund this personnel development project as the Department is currently working on changes to the entire Personnel Development to Improve Services and Results for Children with Disabilities program. The program's new design will ensure that all the projects being supported are more strategically aligned with each other and that all projects more effectively meet the needs of LEAs and schools for effective teachers and other school personnel and leaders. The Department is currently shaping these changes and expects to fund a more strategic competition in FY 2012. However, we also have concluded that it would be contrary to the public interest to have a lapse in the provision of the resources currently provided by the Center. For these reasons, the Secretary proposes to waive the requirements in 34 CFR 75.250, which prohibit project periods exceeding five years, and the requirements in 34 CFR 75.261(a) and (c), which limit the extension of a project period if the extension involves the obligation of additional Federal funds, and issue a continuation award in the amount of $1,350,000 to Vanderbilt University (H325F060003) for an additional twelve-month period.

Waiving these regulations and issuing this continuation award would ensure that pre-service and professional development programs will continue to receive instructional modules, materials, and resources to improve the overall quality of training for individuals who provide services to students with disabilities.

With this proposed extension of project period and waiver, the Center would conduct the following activities during FY 2012:

(a) Build on the previous work of the project by developing additional materials, and disseminating products to an increased number of institutions of higher education, State educational agencies, LEAs, and any other entities that provide training and professional development to individuals who provide services to students with disabilities.

(b) Develop products and services that are based on the input obtained from the comprehensive needs-assessments, textbook analyses, focus groups, and consumer-input processes previously conducted by the Center that tapped the experiences and expertise of an array of partners, consumers, and advisors, including staff from the Department's Office of Special Education Programs. In addition, the Center must continue to seek recommendations from consumers and the Department to guide the development of enhancements (e.g., interactive modules, case studies, activities, information briefs) and services (e.g., technical assistance to faculty, training of trainers, training sessions, and dissemination activities) provided by the Center.

(c) Continue to disseminate project materials to instructors and their students through a cost-free, dedicated Web site that meets accessibility standards under section 508 of the Rehabilitation Act (See http://www.section508.gov for additional information).

Regulatory Flexibility Act Certification

The Secretary certifies that this proposed extension of project period and waiver would not have a significant economic impact on a substantial number of small entities. The entities that would be affected are the current grantee serving as the Professional Development Enhancement Center and any other potential applicant.

Paperwork Reduction Act of 1995

This proposed extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 2, 2011.
Alexa Posny,
Assistant Secretary for Special Education and Rehabilitative Services.

[FR Doc. 2011-14023 Filed 6-6-11; 8:45 am]

BILLING CODE 4000-01-P